DEPARTMENT OF THE INTERIOR

Bureau of Land Management

43 CFR Parts 3430 and 3470

[WO-320-1430-PB-24 1A]

RIN 1004-AD43

Coal Management: Noncompetitive Leases; Coal Management Provisions and Limitations

AGENCY: Bureau of Land Management, Interior.

ACTION: Proposed rule; correction, and extension of comment period.

SUMMARY: The Bureau of Land Management (BLM) is extending the comment period on the proposed rule to amend the regulations on noncompetitive coal leases and coal lease acreage limitations. The reason for the extension is to allow the public sufficient opportunity to review regulatory text that was omitted through a printing error in the original publication in the Federal Register. BLM is also correcting an error in the proposed amendment of the acreage limitation provision.

DATES: Your comments must be received or postmarked by May 13, 2002.

ADDRESSES: Mail: Bureau of Land Management, Eastern States Office, 7450 Boston Blvd., Springfield, VA 22153, Attn: RIN 1004-AD43. (This is a change from the original postal address that appeared in the January 18, 2002, proposed rule. This change will enable your comments to avoid delivery delays associated with the closing of the Washington, DC, postal facility that was contaminated by anthrax.)

Personal or messenger delivery: Room 401, 1620 L Street, NW, Washington, DC 20036.

Internet e-mail: WOComment@blm.gov. (Include “Attn: AD43”).

FOR FURTHER INFORMATION CONTACT: Mary Linda Ponticelli, (202) 452-0350.

SUPPLEMENTARY INFORMATION: The proposed rule to amend the regulations on noncompetitive coal lease modification and coal lease acreage limitations was published on January 18, 2002 (67 FR 2618). Through a printing error, the version that appeared in the Federal Register did not include a proposed amendment of 43 CFR 3472.1-3(a)(1), and, because the printing error also omitted a section heading, did not make it clear in the regulatory text that paragraph (a)(2) that we were amending was in section 3472.1-3 as well. A correction notice appeared in the Federal Register on January 29, 2002 (67 FR 4316).

Further, the January 18, 2002, proposed rule incorrectly stated the amendment of section 3472.1-3(a)(2) required by the Act of November 7, 2000 (30 U.S.C. 184(a)). It should have provided that the figure “100,000 acres” be replaced wherever it appears in section 3472.1-3(a)(2) by the figure “150,000 acres,” and that the operative date “August 4, 1976,” be changed to “November 7, 2000.”

Because of the error, and for your convenience, we are reproducing the entire corrected regulatory text of the proposed rule in this correction and extension notice. This will reduce the confusion that may occur due to the succession of fragmentary notices relating to this proposed rule. For the explanatory material in the preamble of the proposed rule, you should refer to the January 18, 2002, proposed rule (67 FR 2618).

Accordingly, the regulatory text of the proposed rule amending 43 CFR 3432.3 is republished, and the regulatory text amending 43 CFR 3472.1-3(a)(2) is corrected to read as follows:

Dated: March 26, 2002.
Rebecca W. Watson,
Assistant Secretary of the Interior.

PART 3430—NONCOMPETITIVE LEASES

1. The authority citation for part 3430 continues to read as follows:

Authority: 30 U.S.C. 181 et seq.; 30 U.S.C. 351—359; 30 U.S.C. 521—531; 30 U.S.C. 1201 et seq.; and 43 U.S.C. 1701 et seq.

Subpart 3432—Lease Modifications

2. Amend § 3432.3 by revising paragraph (c) to read as set forth below and adding a new paragraph (d) to read:

§ 3432.3 Terms and conditions.

* * * * *

(c) Before modifying a lease, BLM will prepare an environmental assessment or environmental impact statement covering the proposed lease area in accordance with 40 CFR parts 1500 through 1508.

(d) For coal lease modification applications involving lands in the National Forest System, BLM will submit the lease modification application to the Secretary of Agriculture for consent, for completion or consideration of an environmental assessment, for the attachment of appropriate lease stipulations, and for making any other findings prerequisite to lease issuance.

PART 3470—COAL MANAGEMENT PROVISIONS AND LIMITATIONS

3. The authority citation for part 3470 continues to read as follows:

Authority: 30 U.S.C. 189 and 359 and 43 U.S.C. 1733 and 1740.

Subpart 3472—Lease Qualification Requirements

§ 3472.1-3 [Amended]

4. Amend § 3472.1-3 by—

a. Removing from paragraph (a)(1) the terms “46,080 acres” and “100,000 acres”, and adding in their place the terms “75,000 acres” and “150,000 acres”, respectively; and

b. Removing from the first sentence of paragraph (a)(2) the date “August 4, 1976,” and adding in its place the date “November 7, 2000,” and removing from each place it appears in paragraph (a)(2) the term “100,000 acres” and adding in its place the term “150,000 acres.”

[FR Doc. 02-8890 Filed 4-11-02; 8:45 am]

BILLING CODE 4310-84-P